Proclamation 10115 of October 30, 2020

National Day of Remembrance for Americans Killed by Illegal Aliens, 2020

By the President of the United States of America

A Proclamation

On this National Day of Remembrance, we pause to honor the memory of every American life so egregiously taken from us by criminal illegal aliens. As sons and daughters, mothers and fathers, brothers and sisters, and as American citizens, these precious lives are an irreplaceable piece of our national community. We solemnly stand with their families—our Angel Families—who have endured what no American family should ever have to suffer. Today, we recommit to ensuring that those responsible for these tragedies face justice, while taking every action to prevent these horrific acts from occurring in our Nation.

As President, I have no higher duty than to ensure the safety and security of all Americans. Accordingly, I will never rest until our border is fully secure and our communities safe. The laws of our country, including immigration laws, must be respected and followed so that every American citizen may have a bright and prosperous future. I proudly support our dedicated Immigration and Customs Enforcement (ICE) Officers, Customs and Border Protection Officers (CBPOs), Border Patrol Agents, and other law enforcement officials who work every day to protect Americans from the senseless crimes that our Angel Families have had to endure.

For years, our politicians and leaders met the pain and plight of Angel Families with silence and indifference. Under my watch, the voices of our Angel Families no longer fall on deaf ears. Americans who are killed by illegal aliens are no longer forgotten, and we are ensuring that they will not have died in vain. Our Nation solemnly stands alongside the mothers and fathers who are no longer able to see their children grow up and have families of their own and for the sons and daughters who have lost a parent or loved one at the hands of someone who never should have been inside our country in the first place. It is because of these brave families who have suffered unimaginable loss that my Administration created a new office in the Department of Homeland Security called Victims Of Immigration Crime Engagement (VOICE). This program has already assisted hundreds of families and will continue providing critical services until no American suffers the harm or loss of a loved one due to the violent actions of a criminal alien.

My Administration recognizes that a secure border is essential to a safe and prosperous Nation. Accordingly, we have devoted time and resources to constructing a strong border wall and ending the disastrous immigration policies of previous administrations. Four hundred miles of wall have already been built, and we are on pace to complete more than 500 miles by early next year. We have ended the terrible practice of catch-and-release, deployed approximately 4,000 National Guard personnel to the Southern Border in the last 2 years to support Federal border security and wall construction efforts, restored integrity and safety to the asylum process through the Migrant Protection Protocols, and deported more than 20,000 gang members and over 500,000 criminal illegal aliens. During my Administration, our courageous ICE Officers, CBPOs, Border Patrol Agents, and law enforcement personnel have seized thousands of pounds of lethal narcotics at our border—enough to kill every American four times over. Through these efforts, we are saving American lives, curbing crime, and honoring the precious lives tragically taken from us.

On this National Day of Remembrance, we pay tribute to the enduring memory of every American killed by an illegal alien. They will never be forgotten, and we will stand by their families and fight for a future where every American is safe. Together, we will pursue the promise of a proud, noble, and secure future while protecting our families and communities from those who seek to do us harm.

NOW, THEREFORE, I, DONALD J. TRUMP, President of the United States of America, by virtue of the authority vested in me by the Constitution and the laws of the United States, do hereby proclaim November 1, 2020, as a National Day of Remembrance for Americans Killed by Illegal Aliens. I call upon the people of the United States to observe this day with appropriate ceremonies and activities.

IN WITNESS WHEREOF, I have hereunto set my hand this thirtieth day of October, in the year of our Lord two thousand twenty, and of the Independence of the United States of America the two hundred and forty-fifth.

[FR Doc. 2020-24744

Filed 11-4-20; 8:45 am]

Billing code 3295-F1-P